DEPARTMENT OF TRANSPORTATION

Office of the Secretary

Notice of Applications for Certificates of Public Convenience and Necessity and Foreign Air Carrier Permits Filed Under Subpart Q During the Week Ending March 10, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-7060.

Date Filed: March 9, 2000.

Due Date for Answers, Conforming Applications, or Motion to Modify Scope: April 6, 2000.

Description: Application of Air Malta P.L.C. (“Air Malta”) pursuant to 49 U.S.C. 41302 and Subpart Q, requests the issuance of a foreign air carrier permit to Air Malta to provide scheduled and charter foreign air transportation of passenger, property (including cargo), and mail between Malta and the United States, commencing on or about May 1, 2000.

Docket Number: OST-2000-7069.

Date Filed: March 10, 2000.

Due Date for Answers, Conforming Applications, or Motion to Modify Scope: March 31, 2000.

Description: Application of Airline Partner Associates, Inc. d/b/a TransPacific Airlines pursuant to 49 U.S.C. 41102 and Subpart B (formerly Subpart Q), requests a certificate of public convenience and necessity to engage in interstate scheduled air transportation of persons, property, and mail.

Dorothy W. Walker,
Federal Register Liaison.

[FR Doc. 00-7465 Filed 3-24-00; 8:45 am]

BILLING CODE 4910-62-U